TENNESSEE VALLEY AUTHORITY

Environmental Impact Statement—Montana Land Company Land Exchange—Hardin County, Tennessee

AGENCY: Tennessee Valley Authority (TVA).

ACTION: Notice of Intent.

SUMMARY: This notice is provided in accordance with the Council on Environmental Quality's regulations (40 CFR Parts 1500 to 1508) and TVA's procedures implementing the National Environmental Policy Act. TVA will prepare an Environmental Impact Statement (EIS) on alternatives for a requested land exchange by Montana Land Company, L. L. C. (MLC) involving 22 acres of TVA land on Pickwick Reservoir, which is proposed to be exchanged for 164 acres of property, also on Pickwick Reservoir, in Hardin County, Tennessee.

DATES: Comments on the scope of the EIS must be received on or before November 30, 2000.

ADDRESSES: Written comments should be sent to Jon M. Loney, Manager, NEPA Administration, Environmental Policy and Planning, Tennessee Valley Authority, 400 West Summit Hill Drive, Knoxville, Tennessee 37902-1499.

FOR FURTHER INFORMATION CONTACT: Harold M. Draper, NEPA Specialist, Environmental Policy and Planning, Tennessee Valley Authority, 400 West Summit Hill Drive, WT 8C, Knoxville, Tennessee 37902-1499; telephone (865) 632-6889 or e-mail hmdraper@tva.gov.

SUPPLEMENTARY INFORMATION: Pickwick Reservoir is an impoundment of the Tennessee River formed by Pickwick Landing Dam, which is located at Tennessee River Mile (TRM) 206.7 in Hardin County, Tennessee. Pickwick Reservoir is located in parts of three States—Alabama, Mississippi, and Tennessee. The Tennessee Valley Authority (TVA) originally acquired 63,625 acres of land for construction of the reservoir, which was begun in December 1934 and completed in February 1938. TVA has retained 17,358 acres of land lying above full pool elevation. At full pool, the reservoir is 52.7 miles long, shoreline length is 490.6 miles, and surface area is 43,100 acres.

In the late 1980s, private developers began construction on a residential and resort subdivision consisting of 3,000 acres and extending for 11.5 miles along the shoreline of lower Pickwick Reservoir. This development was named Points of Pickwick. The project features waterfront lots, waterview lots, interior single family lots, zero lot line developments, condominium residences, an 18-hole championship golf course, underground utilities, a community marina, and nature trails. In 1995, MLC acquired the property and has continued subdivision development. TVA owns land along two embayments, Lower Anderson Branch and Haw Branch, which extend into this development. No private shoreline access rights exist across the TVA parcels. Shoreline access rights exist across a narrow TVA-owned shoreline band adjoining MLC properties, including the parcel proposed to be exchanged with TVA.

In 1999, TVA completed an EIS on residential shoreline development impacts throughout the Tennessee Valley. The Record of Decision (ROD) was published at 64 FR 30092-30094. In order to limit the eventual development of shoreline and accompanying impacts to aquatic ecology, water quality, scenic beauty, and other valuable resources, the ROD indicated that TVA would adopt a strategy of “maintaining and gaining” public shoreline. Under this strategy, TVA agreed to consider proposals for additional water use access and residential development if it could be shown that the loss of public shoreline was offset by a gain in shoreline resource amenities and public value. TVA's overall goal in implementing this strategy would be to maintain and improve environmental integrity, maintain and enhance public benefits from reservoir lands, and keep the projected maximum residential buildout level at 38 percent of the shoreline length for the Tennessee Valley region.

In 1981, TVA published a land allocation plan for Pickwick Reservoir. The Pickwick Reservoir Plan allocated the tract on Lower Anderson Branch (Planned Tract 1, 12 acres) as open space and the tract on Haw Branch (Planned Tract 2, 36 acres) as open space and a safety harbor. These tracts are located in Hardin County, Tennessee on the right bank near Tennessee River Mile (TRM) 210.0.

After reviewing TVA's Shoreline Management decision, MLC made a request for fee transfer of Planned Tract 1 (Lower Anderson Branch) and Planned Tract 2 (Haw Branch) in exchange for approximately 160 acres of MLC-owned land. TVA solicited comments on this proposal through a public notice in July 2000. The response to this notice indicated that there were concerns over whether the project was an equitable trade and whether the exchange would be environmentally beneficial. In addition, the initial environmental evaluation has revealed concerns over the impacts of exchanging highly visible public land on the main reservoir for lands at the back of a cove. Because of the potential environmental benefits of a gain in public land on lower Pickwick Reservoir, TVA has decided to continue consideration of this request. However, because of concerns about the significance of the impacts should residential development occur on the two tracts proposed for exchange, TVA has elected to prepare an Environmental Impact Statement to better understand the impacts of the proposal.

At this time, TVA anticipates that three alternatives would be analyzed in the EIS. Under No Action, TVA would not amend the Pickwick Reservoir Plan and would not exchange the two tracts of TVA land. A second alternative would consider the original request by the developer for 48 acres of TVA land in exchange for approximately 122 acres of privately-owned property in Haw Branch. A third alternative would consider the developer's request and mitigation measures to reduce environmental impacts. This would include 22 acres of TVA in exchange for 164 acres of privately-owned property, along with 50-foot shoreline buffer management zones and community water-use facilities.

Based on the results of the previous public meeting and subsequent public comments, TVA anticipates that the EIS will include discussion of the potential effects of alternatives on the following resources and issue areas: visual resources, cultural resources, threatened and endangered species, terrestrial ecology, wetlands, recreation, water quality, aquatic ecology, and socioeconomics. Other issues which may be discussed, depending on the potential impacts of the alternatives, include floodplains and air quality.

TVA is interested in receiving additional comments on the scope of issues to be addressed in the EIS. Written comments on the scope of the EIS should be received on or before November 30, 2000. Following completion of the Draft EIS, an additional opportunity to review and comment on the proposal will be provided at that time.

Dated: October 24, 2000.
Kathryn J. Jackson,
Executive Vice President River System Operations & Environment.

[FR Doc. 00-28005 Filed 10-31-00; 8:45 am]

BILLING CODE 8120-08-U